NATIONAL FOUNDATION ON THE ARTS AND HUMANITIES

Cooperative Agreement to Create Greater Public Awareness of Universal Design

AGENCY: National Endowment for the Arts.

ACTION: Notification of Availability.

SUMMARY: The National Endowment for the Arts is requesting proposals leading to one (1) award of a Cooperative Agreement for a project with the goal of creating greater public awareness of and demand for universal designed environments. The successful proposal should include educational efforts targeted to designers, consumers, and decision makers, and involve collaboration with the targeted audiences, as well as the use of innovative strategies to bring the benefits of universal design into the mainstream. Endowment funding is limited to $75,000. A one-to-one match is required. Those interested in receiving the solicitation package should reference Program Solicitation PS 00-02 in their written request and include two (2) self-addressed labels. Verbal requests for the Solicitation will not be honored. It is anticipated that the Program Solicitation will also be posted on the Endowment's Web site at http://www.arts.endow.gov.

DATES: Program Solicitation PS 00-02 is scheduled for release approximately February 14, 2000 with proposals due on March 27, 2000.

ADDRESSES: Requests for the Solicitation should be addressed to the National Endowment for the Arts, Grants, Contracts Office, Room 618, 1100 Pennsylvania Ave., NW, Washington, D.C. 20506.

FOR FURTHER INFORMATION CONTACT: William Hummel, Grants Contracts Office, National Endowment for the Arts, Room 618, 1100 Pennsylvania Ave., NW, Washington, D.C. 20506 (202/682-5482).

William I. Hummel,
Coordinator, Cooperative Agreements and Contracts.

[FR Doc. 00-1980 Filed 1-26-00; 8:45 am]

BILLING CODE 7536-01-M